DEPARTMENT OF COMMERCE

Foreign-Trade Zones Board

[B-58-2024]

Foreign-Trade Zone (FTZ) 35; Authorization of Production Activity; PCI Pharma Services; (Pharmaceutical Products); Croydon and Philadelphia, Pennsylvania

On November 21, 2024, PCI Pharma Services submitted a notification of proposed production activity to the FTZ Board for its facilities within Subzone 35L, in Croydon and Philadelphia, Pennsylvania.

The notification was processed in accordance with the regulations of the FTZ Board (15 CFR part 400), including notice in the Federal Register inviting public comment (89 FR 94704, November 29, 2024). On March 21, 2025, the applicant was notified of the FTZ Board's decision that no further review of the activity is warranted at this time. The production activity described in the notification was authorized, subject to the FTZ Act and the FTZ Board's regulations, including section 400.14.

Dated: March 21, 2025.
Elizabeth Whiteman,
Executive Secretary.

[FR Doc. 2025-05115 Filed 3-25-25; 8:45 am]

BILLING CODE 3510-DS-P